DEPARTMENT OF ENERGY

[OE Docket No. PP-362]

Notice of Availability for the Draft Environmental Impact Statement and Announcement of Public Hearings for the Proposed Champlain Hudson Power Express Transmission Line Project

AGENCY: U.S. Department of Energy.

ACTION: Notice of availability and public hearings.

SUMMARY: The U.S. Department of Energy (DOE) announces the availability of the “Draft Environmental Impact Statement for the Champlain Hudson Power Express Transmission Line Project” (DOE/EIS-0447) for public review and comment. DOE is also announcing four public hearings to receive comments on the Draft EIS. The Draft EIS evaluates the environmental impacts of DOE's proposed Federal action of issuing a Presidential permit to the Applicant, Champlain Hudson Power Express, Inc. (CHPEI), to construct, operate, maintain, and connect a new electric transmission line across the U.S./Canada border in northeastern New York State.

DATES: DOE invites interested Members of Congress, state and local governments, other Federal agencies, American Indian tribal governments, organizations, and members of the public to provide comments on the Draft EIS during the 45-day public comment period. The public comment period started on October 11, 2013, with the publication in the Federal Register by the U.S. Environmental Protection Agency of its Notice of Availability of the Draft EIS, and will continue until November 25, 2013. Written and oral comments will be given equal weight and all comments received or postmarked by that date will be considered by DOE in preparing the Final EIS. Comments received or postmarked after that date will be considered to the extent practicable.

Locations, dates, and start time for the public hearings are listed in the SUPPLEMENTARY INFORMATION section of this Notice of Availability (NOA).

ADDRESSES: Requests to provide oral comments at the public hearings may be made at the time of the hearing(s).

Written comments on the Draft EIS may be provided on the CHPE EIS Web site at http://www.chpexpresseis.org (preferred) or addressed to Mr. Brian Mills: Office of Electricity Delivery and Energy Reliability (OE-20), U.S. Department of Energy, 1000 Independence Avenue SW., Washington, DC 20585; via email to Brian.Mills@hq.doe.gov; or by facsimile to (202) 586-8008. Please mark envelopes and email subject lines as “CHPE Draft EIS Comments.”

The locations, dates, and starting times of the public hearings are listed in the table below:

Location | Date and time | Address
Courtyard Marriott LaGuardia (Queens) | Monday, November 18, 2013, 12:00 p.m | 9010 Ditmars Blvd. East Elmhurst, NY 11369.
Stony Point Center | Monday, November 18, 2013, 6:00 p.m | 17 Cricketown Rd. Stony Point, NY 10980.
Holiday Inn Schenectady | Tuesday, November 19, 2013, 6:00 p.m | 100 Nott Terrace Schenectady, NY 12308.
West Side Ballroom (Plattsburgh) | Wednesday, November 20, 2013, 6:00 p.m | 253 New York Rd. Plattsburgh, NY 12903.

FOR FURTHER INFORMATION CONTACT: Mr. Brian Mills at the addresses above, or at 202-586-8267.

SUPPLEMENTARY INFORMATION: The public hearings will consist of the formal taking of comments with transcription by a court stenographer. The hearings will provide interested parties the opportunity to make comments for consideration in the preparation of the Final EIS.

Availability of the Draft EIS Copies of the Draft EIS have been distributed to appropriate members of Congress, state and local government officials, American Indian tribal governments, and other Federal agencies, groups, and interested parties. Printed copies of the document may be obtained by contacting Mr. Mills at the above address. Copies of the Draft EIS and supporting documents are also available for inspection at the following locations:

• Queens Library—Steinway, 21-45 31 Street (Ditmars Boulevard), Long Island City, NY 11102

• Yonkers Public Library—Riverfront Library, 1 Larkin Center, Yonkers, New York 10701

• Rose Memorial Library, 79 East Main Street, Stony Point, NY 10980

• Kingston Public Library, 55 Franklin Street, Kingston, NY 12401

• Schenectady County Public Library, 99 Clinton Street, Schenectady, NY 12305

• Crandall Public Library, 251 Glen Street, Glens Falls, NY 12801

• Plattsburgh Public Library, 19 Oak Street, Plattsburgh, NY 12901

The Draft EIS is also available on the EIS Web site at http://chpexpresseis.org and on the DOE NEPA Web site at http://nepa.energy.gov/.

Issued in Washington, DC, on October 28, 2013.
Patricia A. Hoffman,
Principal Deputy Assistant Secretary, Office of Electricity Delivery and Energy Reliability.

[FR Doc. 2013-26080 Filed 10-31-13; 8:45 am]

BILLING CODE 6450-01-P